DEPARTMENT OF HOUSING AND URBAN DEVELOPMENT

24 CFR Part 887

Housing Vouchers

CFR Correction

In Title 24 of the Code of Federal Regulations, parts 700 to 1699, revised as of May 1, 2001, part 887 is removed and reserved.

[FR Doc. 01-55523 Filed 8-14-01; 8:45 am]

BILLING CODE 1505-01-D